DEPARTMENT OF ENERGY

Revision to the Record of Decision for the Department of Energy's Waste Management Program: Treatment and Storage of Transuranic Waste

AGENCY: Department of Energy.

ACTION: Revision to record of decision.

SUMMARY: The Department of Energy (DOE), pursuant to 10 Code of Federal Regulations (CFR) 1021.315, is revising the Record of Decision (ROD) for the DOE Waste Management Program: Treatment and Storage of Transuranic (TRU) Waste, issued on January 20, 1998 (63 Federal Register (FR) 3629) and revised previously on December 29, 2000 (65 FR 82985). The Department has now decided to transfer approximately 300 cubic meters of contact-handled transuranic (CH-TRU) waste from the Mound Plant in Ohio to the Savannah River Site (SRS) in South Carolina for storage, characterization, and repackaging prior to sending it to the Waste Isolation Pilot Plant (WIPP) in New Mexico for disposal. The CH-TRU waste will be shipped to SRS in specially designed railcars under an exemption granted by the U.S. Department of Transportation (DOT). The exemption allows for the shipment of 10 railcar loads, each containing no more than 200 curies of plutonium, and is in effect through May 2002. Previously in its ROD, based in part on the analysis in the Waste Management Programmatic Environmental Impact Statement (WM PEIS, DOE/EIS-0200F, dated May 1997), DOE had decided (with one exception) that each DOE site would prepare its own TRU waste for disposal and store it onsite until it is shipped to WIPP. Because DOE is closing the Mound Plant and the site is being converted into a commercial/industrial park, establishing a new capability at Mound to repackage its TRU waste to meet the specifications for shipment to WIPP is not practical or cost-effective.

DOE needs to ship its TRU waste from the Mound Plant to another site for repackaging into the TRU Package Transporter-II (TRUPACT-II) containers that are required for shipments to WIPP.

FOR FURTHER INFORMATION CONTACT: Copies of the WM PEIS, the 1998 WM PEIS ROD for TRU waste, the first revised WM PEIS ROD for TRU waste (issued in 2000), this revised ROD, and the Supplement Analysis for Transportation of TRU Waste from the Mound Plant to SRS for Repackaging, Characterization, and Storage (DOE/EIS-0200-SA02) will be available on DOE's National Environmental Policy Act (NEPA) Web at: http://tis.eh.doe.gov/nepa under DOE NEPA Analyses. To request copies of any of these documents, please write or call:

The Center for Environmental Management Information, P.O. Box 23769, Washington, DC 20026-3769, Telephone: 1-800-736-3282 (in Washington, DC 202-863-5084).

For further information regarding disposal of TRU waste at WIPP, contact: Ms. Lynne Smith, WIPP Office (EM-23), Office of Environmental Management, U.S. Department of Energy, 19001 Germantown Road, Germantown, Maryland 20874-1290, Telephone: 301-903-3124.

For further information on the DOE program for the management of TRU waste at the Mound Plant or this revision to the ROD, contact: Mr. Robert S. Rothman, Miamisburg Environmental Management Project, Ohio Field Office, U.S. Department of Energy, 1 Mound Road, Miamisburg, Ohio 45342, Telephone: 937-865-3823.

For information on DOE's NEPA process, contact: Ms. Carol Borgstrom, Director, Office of NEPA Policy and Compliance, EH-42, U.S. Department of Energy 1000 Independence Avenue, S.W., Washington, DC 20585, Telephone: 202-586-4600, or leave a message at 1-800-472-2756.

SUPPLEMENTARY INFORMATION:

I. Background

The WM PEIS, DOE/EIS-0200F, May 1997, evaluated the potential environmental impacts of treating and storing TRU waste. In the 1998 WM PEIS ROD for TRU waste, DOE decided that “each of the Department's sites that currently has or will generate TRU waste will prepare and store its waste on site” prior to shipment to WIPP. (The only exception to this decision was the Sandia National Laboratory in New Mexico, which will ship its waste to the Los Alamos National Laboratory for disposal preparation and storage before disposal in WIPP.) DOE also noted that “in the future, the Department may decide to ship TRU wastes from sites where it may be impractical to prepare them for disposal to sites where DOE has or will have the necessary capability,” stating that “transportation of TRU waste would occur only in situations where the sites at which the waste is located lack the capability to prepare it for disposal.” The WM PEIS ROD also stated that the sites that could receive TRU waste shipments from other sites were the Idaho National Engineering and Environmental Laboratory, the Oak Ridge National Laboratory, the SRS, and the Hanford Site, and that such decisions would be subject to appropriate review under NEPA.

The Miamisburg Environmental Management Project of the DOE Ohio Field Office is responsible for managing approximately 300 cubic meters of CH-TRU waste from past and present activities and future plans at the Mound Plant. Most of this waste (pipes and waste boxes) is too large to ship in the Type B TRUPACT-II containers that must be used to transport CH-TRU waste to WIPP. The Mound Plant does not possess the necessary facilities or equipment to reduce the size of and repackage the TRU waste to meet WIPP's shipping requirements and therefore would need to establish such a capability at the Mound Plant in order to place its inventory of TRU waste into TRUPACT-II containers for direct shipment to WIPP.

II. Decision

DOE has decided to transfer approximately 300 cubic meters of CH-TRU waste (having a total of approximately 1,000 curies) from the Mound Plant to SRS for storage, characterization, and repackaging for disposal at WIPP. DOE will ship this Mound CH-TRU waste to SRS in OHOX railcars (formerly known as ATMX railcars), in accordance with a DOT exemption from the requirement for shipping this waste in a Type B container. DOE will make up to ten shipments, each with one OHOX railcar loaded with no more than 200 curies of TRU waste.

III. Basis for the Decision

DOE is closing the Mound Plant and the site is being converted into a commercial/industrial park. Given DOE's plan to close the Mound Plant, establishing a new treatment capability at Mound to repackage its TRU waste, as would be necessary to meet the specifications for shipment to WIPP, is not practical or cost-effective. Moreover, the operation and eventual decontamination and decommissioning of such a waste treatment capability at Mound would delay closure of the site and generate additional waste that would require disposal. Thus, DOE needs to ship its TRU waste from the Mound Plant to another site for repackaging for shipment to WIPP.

At SRS, the TRU waste will be managed with TRU waste from SRS; that is, the Mound waste will be stored, characterized, and then repackaged for shipment to WIPP for disposal. SRS is currently managing and will continue to manage large amounts of TRU waste (approximately 12,000 cubic meters through 2033). SRS TRU waste is stored on pads in E-area. DOE has decided to construct and operate the TRU Waste Characterization/Certification Facility at the SRS, in which it will characterize, repackage (including size-reduce), and certify TRU waste for shipment for disposal at WIPP (SRS WM EIS, DOE/EIS-0217F, July 1995, and Supplemental ROD SRS WM, 62 FR 27241, May 1997). Before implementing DOE's plans to construct and operate such a facility (in about 2012), however, DOE will determine what, if any, additional NEPA review is needed.

DOE believes that use of the OHOX railcar will be a safe alternative to use of a Type B container for shipping the Mound TRU waste to SRS because of the terms of the DOT exemption, the design of the OHOX railcar, and the previous safe use record of the OHOX railcar. Under the DOT exemption (DOT-E 5948, June 26, 2000 and in effect through May 2002), the curie content per railcar can be no greater than 200 curies, and there can be no more than ten shipments. With these limitations, DOE has calculated that the risks and consequences of shipping Mound TRU waste in OHOX railcars would be no greater than those estimated in the WM PEIS, even under severe accident conditions.

The design criteria for the OHOX railcar included structural and fire resistant qualities for preventing or mitigating damage to the contents in the event of an accident. The car was originally designed and built for use in transporting nuclear weapons. It can withstand major impacts through its heavy cast-steel underframe and strong superstructure, including cross-bracing of the sides. The cars have been enhanced over the years by structural and insulation modifications and refurbished and certified to meet current railroad and DOT standards.

IV. Mitigation

DOE believes that all practicable means to avoid and minimize environmental harm from implementing this revised decision have already been adopted in the 1998 WM PEIS ROD for TRU waste referenced above. Of particular note is DOE's commitment for assistance to States, tribal and local governments, and other public entities concerning human health and environmental and economic impacts, including transportation planning and emergency response assistance.

V. Prior NEPA Analyses

The WM PEIS evaluated the shipment of approximately 1,390 curies of CH-TRU waste (in ten shipments) in TRUPACT-II containers from Mound to SRS for storage and preparation for disposal as part of the analysis of several Regionalized Alternatives for managing TRU waste. DOE recently prepared a Supplement Analysis for Transportation of TRU Waste from the Mound Plant to the SRS for Repackaging, Characterization, and Storage to determine whether the activities and impacts of transporting Mound TRU waste to SRS in OHOX railcars would present a substantial change in the proposed action relevant to environmental concerns or significant new circumstances or information relevant to environmental concerns and bearing on the proposed action or its impacts and, consequently, whether a supplemental EIS or a new EIS would be needed.

Under the proposed transportation action compared to that analyzed for the WM PEIS, there would be a reduced total number of curies being shipped from the Mound Site to SRS, a lower external exposure rate, and the same or lower number of shipments. Under even severe accident scenarios, the releases of plutonium would be similar to those previously analyzed. The transportation risk analysis DOE prepared to support the DOT exemption for the proposed transportation action is summarized in and attached to the Supplement Analysis. DOE has concluded that the proposed action would not, either under incident-free or accident conditions, present a substantial change relevant to environmental concerns or significant new circumstances or information relevant to environmental concerns and bearing on the proposed action or its impacts. Therefore, DOE concluded that a supplemental EIS or a new EIS is not required under 40 CFR 1502.9(c) or 10 CFR 1021.314(c) to implement this proposal.

Issued in Washington, D.C., this 13 day of July, 2001.
Carolyn L. Huntoon,
Acting Assistant Secretary for Environmental Management.

[FR Doc. 01-18539 Filed 7-24-01; 8:45 am]

BILLING CODE 6450-01-P